DEPARTMENT OF DEFENSE

Department of the Army; Corps of Engineers

Intent To Prepare an Environmental Impact Statement for the Proposed Sierra Vista Specific Plan Project, Corps Permit Application Number 200601050

AGENCY: Department of the Army, U.S. Army Corps of Engineers, DOD.

ACTION: Notice of intent.

SUMMARY: The Sierra Vista Landowner Group proposes to implement a large-scale, mixed-use, mixed-density master planned community with residential, commercial, office, public/quasi-public, and open space land uses, and parks. The Sierra Vista Specific Plan would include approximately 1,148 acres of residential uses; 281 acres of commercial, office, and commercial-mixed uses; 162 acres of parks and paseos; 83 acres of public/quasi-public land uses; 31 acres of urban reserve; and 190 acres of roadways and landscape corridors. The Specific Plan would also include 244 acres of open space; of these, 38 acres would be graded as part of the project and the remaining 206 acres would be preservation areas.

The Specific Plan would include 9,995 dwelling units (in a mix of low, medium, and high densities) and approximately 2,419,113 square feet of retail and office uses. The project would also provide four elementary schools, one middle school, and a fire station. The proposed project is expected to generate about 25,219 new residents and 5,821 jobs. It is anticipated that construction would begin in spring 2010. The duration of construction would depend on market conditions; full buildout would likely be completed within 20 years from construction commencement.

The proposed project site is approximately 2,138 acres and contains 51.87 acres of waters of the United States. The project, as proposed, would result in direct impacts to approximately 37.74 acres of waters of the United States. These acreages do not include indirect impacts from the proposed action or impacts anticipated to result from offsite infrastructure that may be determined to be required as part of the project through the Environmental Impact Statement (EIS) process.

DATES: A scoping meeting will be held on April 16, 2008 from 5 p.m. to 7 p.m.

ADDRESSES: The scoping meeting will be held at the City of Roseville Civic Center (Meeting Rooms 1 and 2), 311 Vernon Street, Roseville, CA 95678.

FOR FURTHER INFORMATION CONTACT: Ms. Nancy Haley, (916) 557-7731, e-mail: SierraVista@usace.army.mil.

SUPPLEMENTARY INFORMATION: Interested parties are invited to submit written comments on the permit application on or before April 29, 2008. Scoping comments should be submitted within the next 60 days, but may be submitted at any time prior to publication of the Draft EIS. To submit comments on this notice or for questions about the proposed action and the Draft EIS, please contact Nancy Haley, 1325 J Street, (Room 1480), Sacramento, CA 95814-2922. Please refer to Identification Number 200601050 in any correspondence.

The Sierra Vista Landowner Group consists of eleven property owners. Each property owner has filed an application for a Department of the Army permit under Section 404 of the Clean Water Act. Because these applications are interrelated, the Corps is considering them in a comprehensive and combined manner. The joint purpose of these applications is to construct a large-scale mixed-use, mixed-density master planned community. To comply with the National Environmental Policy Act (NEPA), the Corps has decided to prepare an EIS to assess the potential impacts to waters of the United States from these combined applications. No project alternatives have been defined to date. The proposed project and the alternatives to its proposed size, design, and location will be developed through the EIS process.

Perennial streams, including Curry Creek; perennial marshes; seasonal wetland swales; seasonal wetlands, including vernal pools; and ephemeral and intermittent streams are located throughout the proposed project site. Verified wetland delineations show that 51.87 acres of waters of the United States occur on the proposed project site. The proposed project will result in direct impacts to approximately 37.74 acres of waters of the United States and will avoid approximately 14.13 acres of these waters of the United States for construction of the project. These acreages do not include indirect impacts from the proposed action or impacts anticipated to result from offsite infrastructure that may be determined to be required as part of the project through the EIS process.

The proposed site for the Sierra Vista Specific Plan Area is in unincorporated Placer County, CA, immediately west and south of the City of Roseville's existing city limits. The majority of the proposed project site is within the City of Roseville's Sphere of Influence (SOI), and approximately 447 acres of the proposed project site are situated west of the City's SOI boundary.

The proposed project site is approximately 6 miles west of Interstate 80 and State Route 65, 10 miles northeast of the City of Sacramento, 10 miles east of State Route 99, 5 miles west of downtown Roseville, and 4 miles east of the Sutter County line. The proposed project site is west of Fiddyment Road, north of Baseline Road to approximately 1/2 mile west of the Baseline Road intersection with Watt Avenue, and south of the West Roseville Specific Plan area.

The project site for the EIS does not include one 40-acre parcel situated within the Sierra Vista Specific Plan area. This parcel is owned by a nonparticipating landowner, and the parcel is not included in the proposed action subject to this NEPA process. At such a time as the owner of the 40-acre parcel decides to develop that property, a separate environmental review would be required.

The Corps' public involvement program includes several opportunities to provide oral and written comments on the Sierra Vista Specific Plan project through the EIS drafting process. Affected federal, state, and local agencies, Indian tribes, and other interested private organizations and parties are invited to participate. Significant issues to be analyzed in depth in the EIS include impacts to waters of the United States, including vernal pools and other wetlands; agricultural resources; cultural resources; threatened and endangered species; transportation; air quality; surface water and groundwater; hydrology and water quality; socioeconomic effects; and aesthetics.

Vernal pool fairy shrimp (Branchinecta lynchi) have been identified as occupying certain areas on the project site during past surveys. Some of these areas are proposed by the Applicant for impact. The Corps will initiate formal consultation with the U.S. Fish and Wildlife Service (USFWS) under Section 7 of the Endangered Species Act for proposed impacts to vernal pool fairy shrimp. USFWS may also consider adding additional federally listed species to the formal consultation process.

No known historic resources on the project site have been listed on or determined eligible for listing on the National Register of Historic Places (NFP) or the California Register of Historical Resources (CRHR). However, the Corps will initiate consultation with the State Historic Preservation Officer under Section 106 of the NHPA as outlined in the Corps' Interim Guidance to 33 CFR Part 325 Appendix C.

It is anticipated that the Draft EIS will be made available to the public between April and October 2009.

Dated: March 28, 2008.
James A. Porter,
Lieutenant Colonel, U.S. Army, Deputy District Engineer.

[FR Doc. E8-6444 Filed 3-27-08; 8:45 am]

BILLING CODE 3710-EH-P